DEPARTMENT OF COMMERCE

Census Bureau

Agency Information Collection Activities; Submission to the Office of Management and Budget (OMB) for Review and Approval; Comment Request; Small Business Pulse Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 19, 2020 during a 60-day comment period. This notice allows for an additional 30 days for public comments.

Agency: U. S. Census Bureau, Commerce.

Title: Small Business Pulse Survey.

OMB Control Number: 0607-1014.

Form Number(s): None.

Type of Request: Regular Submission, Request for a Revision of a Currently Approved Collection.

Number of Respondents: 810,000 (22,500 responses per week for up to a maximum of 36 weeks of collection).

Average Hours per Response: 6 minutes.

Burden Hours: 81,000.

Needs and Uses: Phase 1 of the Small Business Pulse Survey was launched on April 26, 2020 as an effort to produce and disseminate high-frequency, geographic- and industry-detailed experimental data about the economic conditions of small businesses as they experience the coronavirus pandemic. It is a rapid response endeavor that leverages the resources of the federal statistical system to address emergent data needs. Given the rapidly changing dynamics of this situation for American small businesses, the Small Business Pulse Survey has been successful in meeting an acute need for information on changes in revenues, business closings, employment and hours worked, disruptions to supply chains, and expectations for future operations. In addition, the Small Business Pulse Survey provided important estimates of federal program uptake to key survey stakeholders.

Due to the ongoing nature of the pandemic, the Census Bureau subsequently conducted Phases 2 through 7 of the Small Business Pulse Survey. The Census Bureau now seeks approval to conduct Phase 8 of the Small Business Pulse Survey which will occur over 9 weeks starting February 14, 2022.

The continuation of the Small Business Pulse Survey is responsive to stakeholder requests for high frequency data that measure the effect of changing business conditions during the Coronavirus pandemic on small businesses. While the ongoing monthly and quarterly economic indicator programs provide estimates of dollar volume outputs for employer businesses of all size, the Small Business Pulse Survey captures the effects of the pandemic on operations and finances of small, single location employer businesses. As the pandemic continues, the Census Bureau is best poised to collect this information from a large and diverse sample of small businesses.

It is hard to predict when a shock will result in economic activity changing at a weekly, bi-weekly, or monthly frequency. Early in the pandemic, federal, state, and local policies were moving quickly so it made sense to have a weekly collection. The problem is that while we are in the moment, we cannot accurately forecast the likelihood of policy action. In addition, we are not able to forecast a change in the underlying cause of policy actions: the effect of the Coronavirus pandemic on the economy. We cannot predict changes in the severity of the pandemic (e.g., will it worsen in flu season?) nor future developments that will alleviate the pandemic (e.g., vaccines or treatments). In a period of such high uncertainty, the impossibility of forecasting these inflection points underscores the benefits of having a weekly survey. For these reasons, the Census Bureau will proceed with a weekly collection.

SBPS Phase 8 content continues the inclusion of core concepts plus relevant topics to gauge the impact of the Coronavirus pandemic on small businesses. There are 20 questions in total for phase 8. A Phase 4/Phase 5 question inquiring about a businesses' plans for capital expenditures was updated to reference period 2021 and added to the questionnaire. The business norms questions 14 -17 were updated to inquire about the last six months rather than the March 2020 timeframe. The received assistance question was removed as it referenced legislature dates greater than a year ago in December 2020. The remarks field at the end of the survey still present.

The Census Bureau is seeking formal approval for Phase 8 one week prior to starting data collection, by Friday, February 4, 2022.

Based on the SBPS success, the Census Bureau is pursuing a permanent program, the Business Pulse Survey. The Business Pulse Survey will be an ongoing collection that will allow the Census Bureau to continuously provide high frequency, timely, and granular information about current economic conditions and trends as well as the impact of national, subnational, or sector-level shocks and their impact on business activity. The proposed Business Pulse Survey would also allow the Census Bureau to provide more detailed, timely data during times of economic or other emergencies. The Census Bureau is pursuing parallel approval tracks for SBPS phase 8 and the new Business Pulse Survey. In the event that a postponement is required for the Business Pulse Survey, we will run data collection for phase 8 of the SBPS.

All results from the Small Business Pulse Survey will continue to be disseminated as U.S. Census Bureau Experimental Data Products (https://portal.census.gov/pulse/data/). This and additional information on the Small Business Pulse Survey are available to the public on census.gov.

Affected Public: Business or other for-profit organizations.

Frequency: Small business will be selected once to participate in a 6-minute survey.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1014.

Sheleen Dumas,
Department PRA Clearance Officer, Office of the Chief Information Officer, Commerce Department.

[FR Doc. 2021-27601 Filed 12-20-21; 8:45 am]

BILLING CODE 3510-07-P